DEPARTMENT OF JUSTICE

Executive Office for Immigration Review; AAG/A Order No. 007-2004; Privacy Act of 1974; System of Records

Pursuant to the provisions of the Privacy Act of 1974 (5 U.S.C. 552a), notice is hereby given that the Executive Office for Immigration Review (EOIR), Department of Justice, proposes to modify “Records and Management Information System (JUSTICE/EOIR-001),” revisions last published on July 5, 2001 (66 FR 35458), full text last published October 10, 1995 (60 FR 52694).

The modifications are based, in part, on a proposed rule, published December 30, 2003 (68 FR 75160) that would amend the regulations pertaining to appearances by attorneys and representatives before EOIR. The proposed rule would allow EOIR to collect, electronically, new information from attorneys and other Immigration practitioners as a condition of practicing before Immigration Judges and the Board of Immigration Appeals. This new information will consist of the birth date, the last four digits of the social security number, bar membership, as well as the electronic and mailing addresses, of these attorneys or representatives, for purposes of secure communications within an EOIR electronic case access and filing system.

In addition, language changes have been made to clarify and simplify certain routine uses of the information in the system. Also, the address listed for EOIR is amended to reflect that the new location of the EOIR headquarters is 5107 Leesburg Pike, Suite 2600, Falls Church, Virginia 22041. Finally, the Appendix, EOIR-999, which previously listed EOIR field offices will be eliminated on the effective date of this notice. Instead, updated addresses for EOIR field offices may be located on the EOIR Web site at http://www.usdoj.gov/eoir/.

In accordance with 5 U.S.C. 552a(e)(4) and (11), the public is given a 30-day period in which to comment on the system of records. The Office of Management and Budget (OMB), which has oversight responsibility under the Act, requires a 40-day period in which to conclude its review of the system. Therefore, please submit any comments by June 10, 2004. The public, OMB and the Congress are invited to submit any comments to Mary Cahill, Management Analyst, Management and Planning Staff, Justice Management Division, Department of Justice, Washington, DC 20530 (Room 1400, National Place Building).

In accordance with 5 U.S.C. 552a(r) the Department has provided a report to OMB and the Congress.

Dated: May 4, 2004.
Paul R. Corts,
Assistant Attorney General for Administration.

JUSTICE/EOIR-001

System name:

Records and Management Information System (JUSTICE/EOIR-001).

Security Classification:

Not classified.

System location:

Executive Office for Immigration Review, Department of Justice, 5107 Leesburg Pike, Suite 2600, Falls Church, Virginia 22041. The system is also located in EOIR field offices. The EOIR Web site, http://www.usdoj.gov/eoir/, maintains a current address listing of all EOIR field offices.

Category of Individuals covered by the system:

This system contains case-related information pertaining to aliens and alleged aliens brought into the immigration hearing process, including certain aliens previously or subsequently admitted for lawful permanent residence. The system also includes information pertaining to attorneys and representatives practicing before Immigration Judges and the Board of Immigration Appeals.

Categories of records in the system:

This system includes the name, file number, address and nationality of aliens and alleged aliens, decision memoranda, investigatory reports and materials compiled for the purpose of enforcing immigration laws, exhibits, transcripts, and other case-related papers concerning aliens, alleged aliens or lawful permanent residents brought into the administrative adjudication process. The system also includes electronic records of the names, birth dates, last four (4) digits of social security number, bar membership, and addresses, including electronic addresses, of attorneys and representatives practicing before Immigration Judges, and the Board of Immigration Appeals.

Authority for Maintenance of the System:

This system is established and maintained under the authority granted the Attorney General pursuant to 44 U.S.C. 3101 and 3103 and to fulfill the legislative mandate under 8 U.S.C. 1103, 1226 and 1252. Such authority has been delegated to EOIR by 8 CFR part 1003.

Purpose(s):

Information in this system serves as the official record of immigration proceedings. EOIR employees use the information to prepare, process and track the proceedings. The information is further used to generate statistical reports and various documents, i.e., hearing calendars and administrative orders.

Routine Uses of Records Maintained in the System, Including Categories of Users and the Purposes of Such Uses:

Information may be disseminated as follows:

(A) To the Department of State; the Department of Homeland Security; the Department of Health and Human Services; federal courts; the alien or alleged alien's representative or attorney of record; and, to federal, state and local agencies. Information is disseminated to the Department of State, pursuant to 8 CFR 208.11, to allow its preparation of advisory opinions regarding applications for political asylum; to the Federal courts to enable their review of EOIR administrative decisions on appeal; and, to the representative or attorney of record to ensure fair representation. Information is disseminated to the Department of Homeland Security as one of the parties affected by EOIR decisions, and as the agency which enforces the EOIR decision on a case. Information is disseminated to the Department of Health and Human Services as the provider of benefits to qualified immigrants, as well as the custodian of some immigrants in immigration proceedings.

(B) To a Member of Congress or staff acting upon the Member's behalf when the Member or staff requests the information on behalf of and at the request of the individual who is the subject of the record.

(C) To the news media and the public pursuant to 28 CFR 50.2 unless it is determined that release of the specific information in the context of a particular case would constitute an unwarranted invasion of personal privacy.

(D) To the National Archives and Records Administration in records management inspections conducted under the authority of 44 U.S.C. 2904 and 2906.

(E) Where a record either on its face or in conjunction with other information, indicates a violation or potential violation of law—criminal, civil, or regulatory in nature—the relevant records may be referred to the appropriate federal, state, local, foreign, or tribal, law enforcement authority or other appropriate agency charged with the responsibility of investigating or prosecuting such a violation or enforcing or implementing such law.

(F) In an appropriate proceeding before a court, or administrative or adjudicative body, when the Department of Justice determines that the records are arguably relevant to the proceeding; or in an appropriate proceeding before an administrative or adjudicative body when the adjudicator holds the records to be relevant to the proceeding.

(G) Relevant information contained in this system of records may also be released to contractors, grantees, experts, consultants, students, and others performing or working on a contract, service, grant, cooperative agreement, or other assignment for the Federal Government, when necessary to accomplish an agency function related to this system of records.

(H) The Department of Justice may disclose relevant and necessary information to a former employee of the Department for purposes of: Responding to an official inquiry by a federal, state, or local government entity or professional licensing authority, in accordance with applicable Department regulations; or facilitating communications with a former employee that may be necessary for personnel-related or other official purposes where the Department requires information and/or consultation assistance from the former employee regarding a matter within that person's former area of responsibility.

Disclosure to Consumer Reporting Agencies:

Not applicable.

Policies and practices for storing, retrieving, accessing, retaining, and disposing of records in the system:

Storage:

Records are maintained in file folders which are stored in file cabinets. A subset of the records is maintained on fixed disks or removable disk packs which are stored in file cabinets. All records are stored in secured EOIR office space.

Retrievability:

Manual records are indexed by alien file number. Automated records are retrievable by a variety of identifying data elements including, but not limited to, alien file number, alien name and nationality, and attorney's or representative's name and UserId.

Safeguards:

Information maintained in the system is safeguarded in accordance with Department of Justice rules and procedures. Record files are maintained in file cabinets accessible only to EOIR employees. Automated information is stored on either fixed disks or removable disk packs which are stored in cabinets. Only EOIR employees in possession of specific access codes and passwords will be able to generally access automated information. In addition, attorneys or authorized representatives will be able to access information specifically related to their case through the use of a secure UserId and password. All manual and automated records and mediums are located in EOIR office space accessible only to EOIR employees and locked during off-duty hours.

Retention and disposal:

Record files are retained for six months after the final disposition of the case, then forwarded to regional Federal Records Centers. Automated records are maintained in EOIR field office data bases for ninety days after final disposition, then transferred to the host computer at EOIR headquarters and retained in accordance with the General Record Schedule filed with the National Archives and Records Administration.

System manager(s) and addresses:

General Counsel, Executive Office for Immigration Review, U.S. Department of Justice, 5107 Leesburg Pike, Suite 2600, Falls Church, Virginia 22041.

Notification procedure:

Address all inquiries to the system manager listed above.

Record access procedures:

Portions of this system are exempt from disclosure and contest by 5 U.S.C. 522a (k)(1) and (k)(2). Make all request for access to those portions not so exempted by writing to the system manager identified above. Clearly mark the envelope and letter “Privacy Access Requests”: provide the full name and notarized signature, or dated signature under penalty of perjury, of the individual who is the subject of the record, his/her date and place of birth, or any other identifying number or information which may assist in locating the record; and, a return address.

Contesting record procedures:

Direct all requests to contest or amend information maintained to the system manager listed above. Provide the information required under “Record Access Procedure.” State clearly and concisely what information is being contested, the reason for contesting it, and the proposed amendment to the information.

Record source categories:

Department of Justice offices and employees, the Department of Homeland Security, the Department of State, the Department of Health and Human Services, and other federal, state and local agencies; and the parties to immigration proceedings, their attorneys or representatives, and their witnesses.

Exemptions claimed for the system:

The Attorney General has exempted certain records of this system from the access provisions of the Privacy Act (5 U.S.C. 552a(d)) pursuant to 5 U.S.C. 552a (k)(1) and (k)(2). Rules have promulgated in accordance with the requirements of 5 U.S.C. 553 (b), (c) and (e) and have been published in the Federal Register and are codified at 28 CFR 16.83 (a) and (b).

[FR Doc. 04-10564 Filed 5-10-04; 8:45 am]

BILLING CODE 4410-30-P